NEIGHBORHOOD REINVESTMENT CORPORATION

Regular Board of Directors Meeting; Sunshine Act

Time AND Date 2:30 p.m., Wednesday, December 15, 2010.

Place: 1325 G Street, NW., Suite 800, Boardroom, Washington, DC 20005.

Status: Open.

CONTACT PERSON FOR MORE INFORMATION: Erica Hall, Assistant Corporate Secretary, (202) 220-2376; ehall@nw.org.

AGENDA:

I. Call to order

II. Approval of the Minutes

III. Summary Report of the Corporate Administration Committee

IV. Summary Report of the Finance, Budget and Program Committee

V. Summary Report of the Corporate Administration Committee

VI. Summary Report of the Audit Committee

VII. Approval of the Minutes

VIII. Approval of the Minutes

IX. Approval of the Minutes

X. Approval of the Revised Minutes

XI. Board Policy Regarding Elected Officials

XII. Financial Report

XIII. Corporate Scorecard

XIV. Chief Executive Officer's Management Report

XV. Strategic Planning Discussion

XVI. CEO Search Update

XVII. CAC Report on Interim Salary Adjustments

XVIII. Adjournment

Erica Hall,
Assistant Corporate Secretary.

[FR Doc. 2010-31009 Filed 12-9-10; 8:45 am]

BILLING CODE 7570-02-M